DEPARTMENT OF HEALTH AND HUMAN SERVICES

Centers for Disease Control and Prevention

[60Day-10-10GI]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Reports Clearance Officer, 1600 Clifton Road, MS-D74, Atlanta, GA 30333 or send an e-mail to omb@cdc.gov.

Comments are invited on (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluating Act Against AIDS Social Marketing Campaign Phases Targeting Consumers—New—National Center for HIV/AIDS, Viral Hepatitis, STD and TB Prevention (NCHHSTP), Centers for Disease Control and Prevention (CDC).

Background and Brief Description

In response to the continued HIV epidemic in our country, CDC has launched Act Against AIDS, a 5-year, multifaceted communication campaign to reduce HIV incidence in the United States. CDC plans to release the campaign in phases, with some of the phases running concurrently. Each phase of the campaign will use mass media and direct-to-consumer channels to deliver HIV prevention and testing messages. Some components of the campaign will be designed to provide basic education and increase awareness of HIV/AIDS among the general public, and others will be targeted to specific subgroups or communities at greatest risk of infection. The current study addresses the need to assess the effectiveness of these social marketing messages aimed at increasing HIV awareness and delivering HIV prevention and testing messages among at-risk populations.

This study will evaluate the Act Against AIDS (AAA) social marketing campaign aimed at increasing HIV/AIDS awareness, increasing prevention behaviors, and improving HIV testing rates among consumers. The study will consist of a quarterly tracking survey of AAA target audiences to measure exposure to each phase of the campaign and interventions implemented under AAA. Each extended survey will have a core set of items asked in all rounds, as well as a module of questions relating to specific AAA activities and communication initiatives that are occurring during a given quarter. Each extended survey sample will consist of 1,000 respondents selected from a combination of sources, including a national opt-in e-mail list sample and respondent lists generated by partnership organizations (e.g., the National Urban League, the National Medical Association). Participants will self-administer the extended survey at home on personal computers. The research will include 12 data collections over a 3-year period: Four self-administered quarterly extended surveys per year over 3 years, with a total of 12,000 respondents. There is no cost to the respondents other than their time.

Estimated Annualized Burden Hours
Respondents | Data collection type | Number of respondents | Number of responses per respondent | Average burden per response (in hours) | Total burden (in hours)
Individuals (male and female) aged 18 years and older | Study Screener | 20,000 | 1 | 2/60 | 667
Individuals (male and female) aged 18 years and older | Extended survey | 4,000 | 1 | 30/60 | 2,000
Total |  |  |  |  | 2,667

Dated: August 2, 2010.
Maryam I. Daneshvar,
Reports Clearance Officer, Centers for Disease Control and Prevention.

[FR Doc. 2010-19396 Filed 8-5-10; 8:45 am]

BILLING CODE 4163-18-P